DEPARTMENT OF HEALTH AND HUMAN SERVICES

National Institutes of Health

National Cancer Institute; Amended Notice of Meeting

Notice is hereby given of a change in the meeting of the National Cancer Institute Special Emphasis Panel, October 24, 2016, 11:00 a.m. to October 24, 2016, 3:00 p.m., National Cancer Institute Shady Grove, 9609 Medical Center Drive, 6W030, Rockville, MD 20850 which was published in the Federal Register on August 16, 2016, 81 FR 54582.

The meeting notice is amended to change the name of the meeting to Oncology Co-Clinical Imaging Research. The meeting is closed to the public.

Dated: September 6, 2016.
Melanie J. Gray,
Program Analyst, Office of Federal Advisory Committee Policy.

[FR Doc. 2016-21787 Filed 9-9-16; 8:45 am]

BILLING CODE 4140-01-P